DEPARTMENT OF DEFENSE

Office of the Secretary

Charter Amendment of Department of Defense Federal Advisory Committees

AGENCY: Department of Defense.

ACTION: Amendment of Federal Advisory Committee.

SUMMARY: The Department of Defense (DoD) is publishing this notice to announce that it is amending the charter for the Vietnam War Commemoration Advisory Committee (“the Committee”).

FOR FURTHER INFORMATION CONTACT: Jim Freeman, Advisory Committee Management Officer for the Department of Defense, 703-692-5952.

SUPPLEMENTARY INFORMATION: The Committee's charter is being amended in accordance with the Federal Advisory Committee Act (FACA) of 1972 (5 U.S.C., Appendix, as amended) and 41 CFR 102-3.50(d). Pursuant to statutory changes that took effect on February 1, 2018, the DoD disestablished the Office of the Deputy Chief Management Officer and established the Office of the Chief Management Officer (CMO). The DoD is amending the charter for the Committee previously announced in the Federal Register on October 3, 2016 (81 FR 67999) to reflect that the CMO will be the new sponsor for the Committee. The amended charter and contact information for the Designated Federal Officer (DFO) can be obtained at http://www.facadatabase.gov/.

Dated: March 1, 2018.
Aaron Siegel,
Alternate OSD Federal Register Liaison Officer, Department of Defense.

[FR Doc. 2018-04516 Filed 3-5-18; 8:45 am]

BILLING CODE 5001-06-P